DEPARTMENT OF ENERGY

Federal Energy Regulatory Commission

[Docket No. EL07-44-000]

Complainant: Dakota Wind Harvest, LLC, vs. Respondents: Midwest Independent Transmission System Operator, Inc., Montana-Dakota Utilities Company, Western Area Power Administration; Notice of Complaint

March 9, 2007.

Take notice that on March 8, 2007, Dakota Wind Harvest, LLC (Dakota Wind) pursuant to Rule 206 of the Rules of Practice and Procedures of the Commission, 18 CFR 385.206 and sections 206 and 215 of the Federal Power Act, hereby submits the Complaint Requesting Fast Track Processing against Midwest Independent Transmission System Operator, Inc. (Midwest ISO), Montana-Dakota Utilities Company (MDU) and Western Area Power Administration (Western). Dakota Wind is required to file this Complaint due to: (i) Midwest ISO's refusal to allow Dakota Wind's wind-powered electricity generation facility currently under development to commence operations without first having a Balancing Authority designated; (ii) MDU's and Western's refusal to serve as Balancing Authority despite the fact that the Project will be interconnected to the transmission system owned by MDU and located in the geographic area in which Western is the designated Balancing Authority; and (iii) Midwest ISO's and MDU's refusal to act to ensure that a Balancing Authority agrees to provide balancing serviced to Dakota Wind.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on March 23, 2007.

Philis J. Posey,
Acting Secretary.

[FR Doc. E7-4714 Filed 3-14-07; 8:45 am]

BILLING CODE 6717-01-P